ENVIRONMENTAL PROTECTION AGENCY

40 CFR Part 52

[EPA-R04-OAR-2005-0004-201119; EPA-R04-OAR-2010-0958-201119; FRL-9322-6]

Approval and Promulgation of Implementation Plans; South Carolina: Prevention of Significant Deterioration and Nonattainment New Source Review; Fine Particulate Matter and Nitrogen Oxides as a Precursor to Ozone

AGENCY: Environmental Protection Agency (EPA).

ACTION: Final rule.

SUMMARY: EPA is taking final action to approve three revisions to the South Carolina State Implementation Plan (SIP), submitted by the State of South Carolina, through the South Carolina Department of Health and Environmental Control (SC DHEC), to EPA on December 2, 2010, (for parallel processing) and April 14, 2009, and March 16, 2011. South Carolina provided the final version of the December 2, 2010, parallel processing submittal on March 16, 2011. The SIP revisions approved by this action incorporate updates to South Carolina's air quality regulations under South Carolina's New Source Review (NSR) Prevention of Significant Deterioration (PSD) and Nonattainment New Source Review (NNSR) programs. First, the revisions incorporate a PSD permitting requirement promulgated in the 1997 8-Hour Ozone National Ambient Air Quality Standards (NAAQS) Implementation Rule NSR Update Phase II (hereafter referred to as the “Ozone Implementation NSR Update or “Phase II Rule”). Second, the revisions incorporate NSR provisions relating to the fine particulate matter (PM2.5) NAAQS as amended in EPA's 2008 NSR PM2.5 Implementation Rule (hereafter referred to as the “NSR PM2.5 Rule”). Third, the revisions incorporate NNSR requirements for calculating emissions reductions that will be used as emission offsets and ensures that those reductions are surplus to other federal requirements. As a result of the third revision, EPA also is taking final action to convert its conditional approval of South Carolina's NNSR permitting program to full approval. EPA is approving South Carolina's March 16, 2011, and April 14, 2009, SIP revisions because they are in accordance with the Clean Air Act (CAA or Act). Additionally, EPA is responding to adverse comments received on EPA's March 15, 2011, proposed approval of South Carolina's December 2, 2010, proposed SIP revision.

DATES: Effective Date: This rule will be effective July 25, 2011.

ADDRESSES: EPA has established a docket for this action under Docket Identification No. EPA-R04-OAR-2005-0004 and EPA-R04-OAR-2010-0958. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: For information regarding the South Carolina SIP, contact Ms. Twunjala Bradley, Regulatory Development Section, Air Planning Branch, Air, Pesticides and Toxics Management Division, U.S. Environmental Protection Agency, Region 4, 61 Forsyth Street, SW., Atlanta, Georgia 30303-8960. Ms. Bradley's telephone number is (404) 562-9352; e-mail address: bradley.twunjala@epa.gov. For information regarding NSR, contact Ms. Yolanda Adams, Air Permits Section, at the same address above. Ms. Adams' telephone number is (404) 562-9214; e-mail address: adams.yolanda@epa.gov. For information regarding the Phase II Rule, contact Ms. Jane Spann, Regulatory Development Section, at the same address above. Ms. Spann's telephone number is (404) 562-9029; e-mail address: spann.jane@epa.gov. For information regarding the PM2.5 NAAQS, contact Mr. Joel Huey, Regulatory Development Section, at the same address above. Mr. Huey's telephone number is (404) 562-9104; e-mail address: huey.joel@epa.gov.

SUPPLEMENTARY INFORMATION:

Table of Contents

I. Background

II. This Action

III. EPA's Response to Comments

IV. Final Action

V. Statutory and Executive Order Reviews

I. Background

EPA is taking final action on three separate but related revisions to South Carolina's SIP—all pertaining to NSR. South Carolina submitted the first two proposed revisions to EPA for parallel processing on December 2, 2010. Specifically, South Carolina's December 2, 2010, SIP submittal proposed to: (1) Revise South Carolina's PSD regulations at Regulation 61-62.5, Standard No. 7—Prevention of Significant Deterioration to address a PSD permitting requirement promulgated in the Phase II Rule, 70 FR 71612 (November 29, 2005); and (2) incorporate NSR provisions at South Carolina Regulation 61-62.5, Standard No. 7—Prevention of Significant Deterioration and 7.1—Nonattainment New Source Review for PM2.5 as amended in EPA's NSR PM2.5 Rule, 73 FR 28321 (May 16, 2008). On March 15, 2011, EPA proposed approval of South Carolina's proposed December 2, 2010, submission. See 76 FR 13962. This action includes EPA's response to adverse comments received on the portion of EPA's March 15, 2011, proposal pertaining to approval of South Carolina's proposed PM2.5 revisions. South Carolina submitted the December 2, 2010, parallel processing SIP revision in final form on March 16, 2011.

Additionally, South Carolina submitted a third SIP revision on April 14, 2009, to address EPA's conditional approval of South Carolina's NNSR program. See 73 FR 31368 (June 2, 2008). On March 24, 2011, EPA published a proposed rulemaking notice to approve a portion of the changes included in South Carolina's April 14, 2009, submission, and to convert EPA's previous conditional approval of South Carolina's NNSR program to full approval. See 76 FR 16593.

EPA is now taking final action to approve the changes to South Carolina's NSR programs as noted in EPA's March 15, 2011, and March 24, 2011, proposed rulemakings. A summary of the background for today's final actions is provided below. For more detail, please refer to EPA's proposed rulemakings at 76 FR 13962 (March 15, 2011), and 76 FR 16593 (March 24, 2011).

a. Phase II Rule

With regard to the 1997 8-hour ozone NAAQS,¹ EPA's Phase II Rule, finalized on November 29, 2005, addressed NSR permitting requirements and specifically identified nitrogen oxides (NOX) as an ozone precursor under the NSR program. See 70 FR 71612. States were required to provide SIP submissions to address the Phase II Rule requirements by June 15, 2007. On July 1, 2005, South Carolina submitted a SIP revision to adopt the PSD and NNSR provisions amended in the 2002 NSR Reform rules.² The SIP revision became state-effective on June 24, 2005, and adopted PSD and applicable NNSR provisions at 40 CFR 51.165 and 51.166, respectively. Also in the July 1, 2005 submittal, South Carolina recognized NOX as an ozone precursor for NSR permitting purposes by adopting provisions into its SIP. At the time of South Carolina's NSR Reform SIP submittal, the Phase II Rule had not been finalized by EPA. However, South Carolina had recognized NOX emissions as an ozone precursor in its PSD permitting practice. EPA took final action to approve South Carolina's NSR Reform SIP revision as well as NOX as a precursor provisions into the South Carolina SIP on June 2, 2008. See 73 FR 31368.

¹ On July 18, 1997, EPA promulgated a revised 8-hour ozone NAAQS of 0.08 parts per million—also referred to as the 1997 8-hour ozone NAAQS. On April 30, 2004, EPA designated areas as attainment, nonattainment and unclassifiable for the 1997 8-hour ozone NAAQS. In addition, on April 30, 2004 as part of the framework to implement the 1997 8-hour ozone NAAQS, EPA promulgated an implementation rule in two phases (Phase I and II). The Phase I Rule (effective on June 15, 2004), provided the implementation requirements for designating areas under subpart 1 and subpart 2 of the CAA. See 69 FR 23857.

² On December 31, 2002 (67 FR 80186), EPA published final rule changes to 40 CFR parts 51 and 52, regarding the CAA's PSD and NNSR programs. On November 7, 2003 (68 FR 63021), EPA published a notice of final action on the reconsideration of the December 31, 2002, final rule changes. The December 31, 2002, and the November 7, 2003, final actions are collectively referred to as the “2002 NSR Reform Rules.”

To be consistent with federal NSR permitting regulations, South Carolina's March 16, 2011, SIP revision incorporates a NOX as ozone precursor requirement for PSD that was not included in South Carolina's July 1, 2005, SIP submittal at Regulation 61-62-5 Standard No. 7. Specifically, the change addresses the inclusion of “nitrogen oxides” in the footnote at 61-62.5(i)(5)(i) as amended at 40 CFR 51.166(i)(5)(i)(e). The provision at 40 CFR 51.166(i)(5)(i)(e) requires sources with a net increase of 100 tons per year or more of NOX to perform an ambient impact analysis. Together, South Carolina's previously approved July 1, 2005, SIP revision (73 FR 31368) and the March 16, 2011, SIP revision addressed by this rulemaking incorporate the Phase II Rule permitting requirements pertaining to NOX as an ozone precursor into the South Carolina SIP.

b. NSR PM2.5 Rule

With regard to the 1997 PM2.5 NAAQS, EPA finalized a rule on May 16, 2008, including changes to the NSR program. See 73 FR 28321. The 2008 NSR PM2.5 Rule revised the NSR program requirements to establish the framework for implementing preconstruction permit review for the PM2.5 NAAQS in both attainment and nonattainment areas. States are required to provide SIP submissions to address the requirements for the 2008 NSR PM2.5 Rule by May 16, 2011. South Carolina's March 16, 2011, SIP revision addresses these requirements.

c. Conversion of EPA's Conditional Approval of South Carolina's NNSR Program

In addition to approving South Carolina's NSR Reform SIP revision and NOX as an ozone precursor provisions, as mentioned in Section I.a. above, EPA's June 2, 2008 (73 FR 31368), action conditionally approved South Carolina Regulation 61-62.5, Standard No. 7.1—Nonattainment New Source Review for inclusion in the South Carolina SIP. This regulation relates to South Carolina's NNSR permit program. As part of the conditional approval, South Carolina had twelve months from the June 2, 2008, final conditional approval to submit changes to its NNSR program as described herein to be consistent with EPA federal regulations.

On April 14, 2009, SC DHEC submitted a revision to the SIP, incorporating the corrections required by EPA in the conditional approval. Specifically, South Carolina revised Regulation 61-62.5, Standard No. 7.1 to include baseline provisions for calculating emission reductions to be used as offsets to meet the requirements set out in 40 CFR 51.165(a)(3)(i) and Appendix S, section IV.C. This revision affects major stationary sources in South Carolina that are subject to or potentially subject to the NNSR construction permit program. The emission offsets provisions also specify that the reductions must be surplus and cannot be used for offsets if they are otherwise required by the South Carolina SIP or other federal standards, such as New Source Performance Standards and National Emissions Standards for Hazardous Air Pollutants, including the Maximum Achievable Control Technology standards. Both of these issues, which were specifically identified in EPA's June 2, 2008, final conditional approval, were addressed in South Carolina's April 14, 2009, SIP revision.

II. This Action

In two separate rulemakings, EPA proposed action to approve changes to South Carolina's NSR program. First, EPA proposed to approve South Carolina's March 16, 2011, SIP revision addressing PSD and NNSR requirements related to the implementation of the PM2.5 NAAQS as well as adding a provision of the PSD NOX as a precursor requirements established in the Phase II Rule (at 40 CFR 51.165 and 51.166). See 76 FR 13962 (March 15, 2011). These revisions were necessary to update South Carolina's existing NSR program at Regulation 61-62.5 Standards No. 7 and 7.1 to be consistent with current federal NSR regulations. EPA has determined that South Carolina's March 16, 2011 SIP revision, which became state-effective on February 25, 2011, meets the requirements of the 2008 NSR PM2.5 Rule and the Phase II Rule. Further, EPA has determined that South Carolina's March 16, 2011, SIP revision is consistent with section 110 of the CAA.

Second, EPA proposed to approve South Carolina's April 14, 2009, SIP revision ³ which consists of changes to South Carolina Regulation 61-62.5, Standard No. 7.1 entitled “Nonattainment New Source Review.” See 76 FR 16593 (March 24, 2011). EPA received no comments on that proposal. SC DHEC submitted this SIP revision in response to EPA's June 2, 2008 (73 FR 31368), final rule, which conditionally approved South Carolina's NNSR program. EPA has determined that South Carolina's April 14, 2009, SIP revision satisfies the conditions listed in EPA's June 2, 2008, conditional approval, and today is taking final action to convert its prior conditional approval to full approval.

³ In addition to changes to address the conditional approval of South Carolina's NNSR program and minor administrative changes, South Carolina's April 14, 2009, SIP revision also includes provisions in Regulation 61-62.5, Standards No. 7 and 7.1 to exclude facilities that produce ethanol through a natural fermentation process (hereafter referred to as the “Ethanol Rule”) from the definition of “chemical process plants” in the major NSR permitting program. See 72 FR 24060 (May 1, 2007). At this time, EPA is not taking action on South Carolina's changes to its NSR program to incorporate the provisions of the Ethanol Rule.

South Carolina's April 14, 2009, SIP revision also includes the removal of provisions which existed in South Carolina regulations that relate to requirements that were vacated from the federal program by the United States Court of Appeals for the District of Columbia Circuit on June 24, 2005. The provisions vacated from the federal rules pertain to pollution control projects (PCPs) and clean units (CUs). Since these provisions were not approved into South Carolina's SIP, no action is required by EPA.⁴ As a result of the removal of the PCP and CU provisions, South Carolina's April 14, 2009, SIP revision also includes minor administrative reference changes at Regulation 61-62.5, Standard No. 7—Prevention of Significant Deterioration and Standard No. 7.1 Nonattainment New Source Review for which EPA is now taking final action today to include in the South Carolina SIP.

⁴ On June 2, 2008 (73 FR 31368), EPA disapproved provisions in South Carolina's PSD and NNSR programs relating to PCP and CUs. Therefore, these provisions were not approved into South Carolina's SIP.

Given that South Carolina's April 14, 2009, SIP revision satisfies the conditional approval requirements for conversion to a full approval, the conditional approval language at section 52.2119 of 40 CFR part 52, included in EPA's final conditional approval published June 2, 2008 (73 FR 31368), is no longer necessary. This action removes the conditional approval language relating to South Carolina's NNSR program from the CFR to reflect that the program has been fully approved. EPA is publishing this rulemaking to remove § 52.2119 of 40 CFR part 52. As a consequence of the changes to § 52.2119 of 40 CFR part 52, this action also moves the existing disapproval language pertaining to PCPs and CUs at § 52.2119(c) to § 52.2122(e) of 40 CFR part 52. In addition, this action moves footnote 1 in § 52.2120(c) to section 52.2122(d). Lastly, today's action corrects an inadvertent error regarding the omission of Standard No. 7.1 entry from the table at § 52.2120(c). EPA has determined that this last change qualifies for the “good cause” exemption from public notice requirements pursuant to section 553(b)(3)(B) of the Administrative Procedure Act. Specifically, public notice and opportunity to comment on EPA's correction of the CFR table is unnecessary because it neither alters the meaning of the regulations at issue nor otherwise affects EPA's analysis of South Carolina's NSR and NNSR SIP revisions.

III. EPA's Response to Comments

EPA received one set of comments on the March 15, 2011, proposed rulemaking to approve South Carolina's proposed December 2, 2010, SIP revision to adopt federal requirements for NSR permitting set forth in the NSR PM2.5 Implementation Rule and the Phase II Rule. A full set of the comments provided by a single commenter is provided in the Docket No. EPA-R04-OAR-2010-0958 for this final action. A summary of the comment and EPA's response is provided below.

Comment: The Commenter provided EPA with an electronic copy of the EPA final rulemaking entitled “Prevention of Significant Deterioration (PSD) for Particulate Matter Less Than 2.5 Micrometers (PM2.5)—Increments, Significant Impact Levels (SILs) and Significant Monitoring Concentration (SMC); Final Rule,” (hereafter referred to as the PM2.5 Increments, SILs and SMC Rule). See 75 FR 64864 (October 20, 2010). The Commenter states “the South Carolina's SIP should also include the increment and significant impact level and significant monitoring concentrations in the attached final rule.”

Response: The requirements outlined in EPA's PM2.5 Increments, SILs and SMC Rule are not relevant to EPA's March 15, 2011, proposed action and today's final action. Furthermore, the deadline for South Carolina to submit a SIP revision to adopt the requirements set forth in EPA's PM2.5 Increments, SILs and SMC Rule has not yet passed. Specifically, as promulgated in the PM2.5 Increments, SILs and SMC Rule and in accordance with section 166(b) of the CAA, states are required to submit a SIP revision to adopt the PM2.5 increments no later than 21 months from the promulgation of the Rule, that is, by July 20, 2012. See 75 FR at 64898. EPA notes that while the PM2.5 increments are mandatory, the SILs and SMC provisions are not mandatory but in fact are elective tools that a state may incorporate into its SIP at the state's discretion. Therefore, South Carolina has additional time to revise its SIP to incorporate the required PM2.5 PSD increments and the elective SIL and SMC provisions.

IV. Final Action

Pursuant to section 110 of the CAA, EPA is taking final action to approve South Carolina's March 16, 2011, SIP revisions adopting federal regulations amended in the NSR PM2.5 Rule and the Phase II Rule (recognizing NOX as an ozone precursor) into the South Carolina SIP. EPA is approving these revisions into the South Carolina SIP because they are consistent with section 110 of the CAA and its implementing regulations.

In addition, EPA is also taking final action to approve South Carolina's April 14, 2009, SIP revision, which consists of changes to South Carolina Regulation 61-62.5, Standard No. 7.1 entitled “Nonattainment New Source Review.” SC DHEC submitted the April 14, 2009, SIP revision in response to EPA's June 2, 2008, rule (73 FR 31368), which conditionally approved South Carolina's NNSR program as provided in the State's July 1, 2005, SIP revision. SC DHEC has now satisfied the conditions listed in EPA's conditional approval. Therefore, today's final action also converts EPA's conditional approval of South Carolina's NNSR program to a full approval. The April 14, 2009, SIP revision is consistent with federal regulations and in accordance with the CAA. In addition, EPA is taking final action to approve minor administrative reference changes at South Carolina Regulation 61-62.5 Standards No. 7 and 7.1 as a result of the removal of PCP and CU provisions.

As mentioned above in Section II and as a result of final approval of today's actions, this rulemaking makes the following administrative corrections to 40 CFR part 52: (1) Removes the conditional approval language at section 52.2119 to reflect that South Carolina's NNSR program has been fully approved; (2) relocates the existing disapproval language at section 52.2119(c) to section 52.2122(e) of 40 CFR part 52; and (3) moves footnote 1 in section 52.2120(c) to section 52.2122(d). Lastly, today's action also corrects an inadvertent error regarding the omission of Standard No. 7.1 entry from the table at section 52.2120(c).

V. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

EPA has also determined that this rule does not have tribal implications as specified by Executive Order 13175 (65 FR 67249, November 9, 2000), because there are no “substantial direct effects” on an Indian Tribe as a result of this action. The Catawba Indian Nation Reservation is located within the South Carolina portion of the bi-state Charlotte nonattainment area. EPA notes that the proposal for this rule incorrectly stated that the South Carolina SIP is not approved to apply in Indian country located in the state. However, pursuant to the Catawba Indian Claims Settlement Act, S.C. Code Ann. 27-16-120, “all state and local environmental laws and regulations apply to the Catawba Indian Nation and Reservation and are fully enforceable by all relevant state and local agencies and authorities.” Thus, the South Carolina SIP does apply to the Catawba Reservation. While this action revises South Carolina's existing NSR permitting regulations in the SIP, EPA has determined that these revisions will not impose any substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 22, 2011. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).) For purposes of judicial review, each of the three SIP revisions approved by today's action are severable from one another.

List of Subjects in 40 CFR Part 52

Environmental protection, Air pollution control, Incorporation by reference, Intergovernmental relations, Ozone, Particulate matter, Reporting and recordkeeping requirements and Volatile organic compounds.

Dated: June 9, 2011.
A. Stanley Meiburg,
Acting Regional Administrator, Region 4.

40 CFR part 52 is amended as follows:

PART 52—[AMENDED]

1. The authority citation for part 52 continues to read as follows:

Authority: 42.U.S.C. 7401 et seq.

Subpart PP—South Carolina

§ 52.2119 [Removed]

2. Section 52.2119 is removed.

3. Section 52.2120 (c) is amended under Regulation No. 62.5 by revising the entry for “Standard No. 7” and adding an entry for “Standard No. 7.1” to read as follows:

§ 52.2120 Identification of plan.

* * * * *

(c) * * *

Air Pollution Control Regulations for South Carolina
State citation | Title/subject | State effective date | EPA approval date | Federal Register notice
| * * * * * * *
Regulation No. 62.5 | Air Pollution Control Standards
| * * * * * * *
Standard No. 7 | Prevention of Significant Deterioration¹ | 2/25/2011 | 6/23/2011 | [Insert citation of publication].
Standard No. 7.1 | Nonattainment New Source Review¹ | 2/25/2011 | 6/23/2011 | [Insert citation of publication].
| * * * * * * *
¹ This EPA action is approving revisions to the South Carolina SIP with the exception of the phrase “except ethanol production facilities producing ethanol by natural fermentation under the North American Industry Classification System (NAICS) codes 325193 or 312140,” as amended in the Ethanol Rule. See 72 FR 24060 (May 1, 2007).

* * * * *

4. Section 52.2122 is amended by adding paragraphs (d) and (e) to read as follows:

§ 52.2122 Approval status.

(d) Regulation 61-62.5 Standard No. 7—This regulation (submitted on July 1, 2005) includes two portions of EPA's 2002 NSR Reform Rules that were vacated by the D.C. Circuit Court—Pollution Control Projects (PCPs) and clean units. As a result, EPA is disapproving all rules and/or rule sections in the South Carolina PSD rules referencing clean units or PCPs. Specifically, the following South Carolina rules are being disapproved: (a)(2)(iv)(e); (a)(2)(iv)(f) (second sentence only); (a)(2)(vi); (b)(12); (b)(30)(iii)(h); (b)(34)(iii)(b); (b)(34)(vi)(d); (b)(35); (r)(6)—only the reference to the term “clean unit” is being disapproved. The remainder of this regulatory provision is being approved); (r)(7)—only the reference to the term “clean unit” is being disapproved. The remainder of this regulatory provision is being approved); (x); (y) and (z).

(e) Regulation 61-62.5 Standard No. 7.1—EPA is disapproving two provisions of South Carolina's NNSR program (submitted on July 1, 2005) that relate to provisions that were vacated from the federal program by the United States Court of Appeals for the District of Columbia Circuit on June 24, 2005. The two provisions vacated from the federal rules pertain to Pollution Control Projects (PCPs) and clean units. The PCP and clean unit references are severable from the remainder of the NNSR program. Specifically, the following sections of South Carolina Regulation 61-62.5 Standard No. 7.1 are being disapproved: (b)(5); (b)(6)—Second sentence only; (b)(8); (c)(4); (c)(6)(C)(viii); (c)(8)(C)(iii); (c)(8)(E)(v); (c)(10); (d)(1)(C)(ix); (d)(1)(C)(x); (d)(3)—Only the reference to the term “clean unit” is being disapproved. The remainder of this regulatory provision is being approved; (d)(4)—Only the reference to the term “clean unit” is being disapproved. The remainder of this regulatory provision is being approved; (f); (g) and (h). These disapprovals were amended in 73 FR 31371, (June 2, 2008).

[FR Doc. 2011-15633 Filed 6-22-11; 8:45 am]

BILLING CODE 6560-50-P